FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012308-001.

Title: MOL/CMA CGM Japan/USWC Slot Charter Agreement.

Parties: CMA CGM S.A. and Mitsui O.S.K. Lines, Ltd.

Filing Party: Eric C. Jeffrey; Nixon Peabody LLP; 799 9th Street NW., Suite 500; Washington, DC; 20001.

Synopsis: The amendment increases the number of slots that MOL will charter to CMA CGM and revises the termination date.

Agreement No.: 012398.

Title: CMA CGM/APL USEC-ISC-Middle East Space Charter Agreement.

Parties: CMA CGM S.A.; and APL Co. Pte Ltd. and American President Lines, Ltd. (collectively “APL”).

Filing Party: Eric. C. Jeffrey, Esq.; Nixon Peabody LLP; 799 9th Street NW., Suite 500; Washington, DC 20001.

Synopsis: The agreement authorizes CMA CGM to charter slots to APL in the trade between ports on the U.S. East Coast, on the one hand, and ports in India, Pakistan, Egypt, and Saudi Arabia, on the other hand.

Agreement No.: 201175-006.

Title: Port of NY/NJ Sustainable Services Agreement.

Parties: APM Terminals Elizabeth, LLC; GCT Bayonne LP; GCT New York LP; Maher Terminals LLC; and Port Newark Container Terminal LLC.

Filing Party: Carol N. Lambos, Esq.; The Lambos Firm, LLP; 303 South Broadway Suite 410; Tarrytown, NY 10591.

Synopsis: The amendment would add Red Hook Container Terminal, LLC as a party to the agreement.

Agreement No.: 201232.

Title: NYSA-ILA Assessment Agreement.

Parties: International Longshoremen's Association and New York Shipping Association.

Filing Parties: Donato Caruso, Esq.; The Lambos Firm, LLP; 303 South Broadway, Suite 410; Tarrytown, NY 10591 and Andre Mazzola, Esq.; Marrinan & Mazzola Mardon, P.C.; 26 Broadway, 17th Floor; New York, NY 10004.

Synopsis: The agreement consolidates amended Agreement No. 201162 into a single agreement.

By Order of the Federal Maritime Commission.
Dated: April 8, 2016.
Karen V. Gregory,
Secretary.

[FR Doc. 2016-08483 Filed 4-12-16; 8:45 am]

BILLING CODE 6731-AA-P